DEPARTMENT OF ENERGY

Federal Energy Regulatory Commission

Combined Notice of Filings #1

July 28, 2005.

Take notice that the Commission received the following electric rate filings:

Docket Numbers: ER00-23-001.

Applicants: Rayburn Country Electric Cooperative, Inc.

Description: Rayburn Country Electric Cooperative Inc. submits its triennial market power analysis and a request to file out of time.

Filed Date: 07/25/2005.

Accession Number: 20050727-0004.

Comment Date: 5 p.m. Eastern Time on Monday, August 15, 2005.

Docket Numbers: ER00-23-002.

Applicants: Rayburn Country Electric Cooperative, Inc.

Description: Rayburn Country Electric Cooperative, Inc. submits revisions to its market-based rate schedule, FERC Electric Tariff 4.

Filed Date: 07/25/2005.

Accession Number: 20050727-0005.

Comment Date: 5 p.m. Eastern Time on Monday, August 15, 2005.

Docket Numbers: ER00-2677-004.

Applicants: American Re-Fuel Company of Delaware Valley, L.P.

Description: American RE-Fuel Company of Delaware Valley, L.P., now known as Covanta Delaware, LP notifies the Commission of a change in status with respect to authority to engage in wholesale sales of energy, capacity and ancillary services at market-based rates.

Filed Date: 07/25/2005.

Accession Number: 20050727-0017.

Comment Date: 5 p.m. Eastern Time on Monday, August 15, 2005.

Docket Numbers: ER01-1302-006.

Applicants: American Ref-Fuel Company of Niagara, L.P.

Description: American Ref-Fuel Co. of Niagara, L.P., now known as Covanta Niagara, L.P., notifies the Commission of a change in the status with respect to authority to engage in wholesale sales of energy, capacity, and ancillary at market-based rates.

Filed Date: 07/25/2005.

Accession Number: 20050727-0002.

Comment Date: 5 p.m. Eastern Time on Monday, August 15, 2005.

Docket Numbers: ER03-1085-003.

Applicants: Covanta Union, Inc.

Description: Covanta Union, Inc. notifies the Commission of a change in status with respect to authority to engage in wholesale sales of energy, capacity and ancillary services at market-based rates.

Filed Date: 07/25/2005.

Accession Number: 20050727-0006.

Comment Date: 5 p.m. Eastern Time on Monday, August 15, 2005.

Docket Numbers: ER04-1192-001.

Applicants: Pacific Gas and Electric Company. Fresno Cogeneration Partners, LP.

Description: Pacific Gas and Electric Company submits amended generator interconnection agreements in compliance with the Commission's order issued 11/2/04, 109 FERC ¶ 61,137.

Filed Date: 07/25/2005.

Accession Number: 20050727-0184.

Comment Date: 5 p.m. Eastern Time on Monday, August 15, 2005.

Docket Numbers: ER05-938-001.

Applicants: Southern Company Services, Inc.

Description: Southern Company Services, Inc., acting as agent for Alabama Power Company, Georgia Power Company, Gulf Power Company, Mississippi Power Company and Savannah Electric and Power Company, submit an amendment to their 5/5/05 filing in Docket No. ER05-938-000.

Filed Date: 07/22/2005.

Accession Number: 20050722-5032.

Comment Date: 5 p.m. Eastern Time on Friday, August 12, 2005.

Docket Numbers: ER05-1099-002.

Applicants: E Minus Energy Corporation.

Description: E Minus Energy Corporation submits an amended Rate Schedule FERC No. 1 to be included in the 6/12/05 filing, and request for a shortened notice period.

Filed Date: 07/25/2005.

Accession Number: 20050727-0008.

Comment Date: 5 p.m. Eastern Time on Friday, August 5, 2005.

Docket Numbers: ER05-1243-000.

Applicants: Basin Electric Power Cooperative.

Description: Basin Electric Power Cooperative submits revised tariff sheets that modify the rates in the joint open-access transmission tariff of Black Hills Power, Inc., Basin Electric, and Powder River Energy Corporation designated as Black Hills Power, Inc., to FERC Electric Tariff, Original Volume No. 4.

Filed Date: 07/25/2005.

Accession Number: 20050727-0016.

Comment Date: 5 p.m. Eastern Time on Monday, August 15, 2005.

Docket Numbers: ER05-1244-000.

Applicants: Societe Generale Energie (USA) Corp.

Description: Societe Generale Energie (USA) Corp. submits application for acceptance of its FERC Electric Tariff, Original Volume No. 1, the grating of certain waivers, and blanket authorizations.

Filed Date: 07/25/2005.

Accession Number: 20050727-0001.

Comment Date: 5 p.m. Eastern Time on Monday, August 15, 2005.

Docket Numbers: ER05-743-002.

Applicants: Pacific Summit Energy LLC.

Description: Pacific Summit Energy, LLC submits Substitute Original Sheet Nos. 1, 2, & 3 to its revised FERC Electric Rate Schedule No.1 in compliance with the Commission's Letter Order issued 6/24/05 in Docket Nos. ER05-743-000 and 001.

Filed Date: 07/25/2005.

Accession Number: 20050727-0003.

Comment Date: 5 p.m. Eastern Time on Monday, August 15, 2005.

Docket Numbers: ER05-758-002.

Applicants: American Electric Power Service Corporation.

Description: American Electric Power Service Corporation, an agent for its affiliate Columbus Southern Power Company, submits a refund report in compliance with the Commission's letter order issued 6/28/05.

Filed Date: 07/25/2005.

Accession Number: 20050727-0009.

Comment Date: 5 p.m. Eastern Time on Monday, August 15, 2005.

Docket Numbers: ER97-886-009.

Applicants: Brooklyn Navy Yard Cogeneration Partners, L.P.

Description: Brooklyn Navy Yard Cogeneration Partners, L.P. submits its Triennial Updated Market Analysis and revised market-based rate schedules.

Filed Date: 07/25/2005.

Accession Number: 20050727-0007.

Comment Date: 5 p.m. Eastern Time on Monday, August 15, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed dockets(s). For assistance with any FERC Online service, please e-mail FERCOnlinSupport@ferc.gov. or call (866) 208-3676 (toll free). For TTY, call (202) 502-8659.

Linda Mitry,
Deputy Secretary.

[FR Doc. E5-4204 Filed 8-4-05; 8:45 am]

BILLING CODE 6717-01-P